DEPARTMENT OF THE INTERIOR

Fish and Wildlife Service

Notice of Meetings of the Klamath River Basin Fisheries Task Force

AGENCY: Fish and Wildlife Service, Interior.

ACTION: Notice of meetings.

SUMMARY: Pursuant to section 10(a)(2) of the Federal Advisory Committee Act (5 U.S.C. App. I), this notice announces a meeting of the Klamath River Basin Fisheries Task Force, established under the authority of the Klamath River Basin Fishery Resources Restoration Act (16 U.S.C. 460ss et seq.). The meeting is open to the public. The purpose of the meeting is to continue providing recommendations from the affected interests to the Department of the Interior on implementation of their program to restore anadromous fisheries, including salmon and steelhead, of the Klamath River in California and Oregon.

DATES: The first meeting will be from 9 a.m. to 5 p.m. on February 9, 2005, and from 8 a.m. to 1 p.m. on February 10, 2005. The second meeting will be from 9 a.m. to 5 p.m. on June 15, 2005, and from 8 a.m. to 1 p.m. on June 16, 2005. The third meeting will be from 9 a.m. to 5 p.m. on October 19, 2005, and from 8 a.m. to 1 p.m. on October 20, 2005.

ADDRESSES: The first meeting will be held at the Elk Valley Rancheria, 2500 Howland Hill Road, Crescent City, California. The second meeting will be held at the Convention Center, Best Western Miner's Inn, 112 E. Miner Street, Yreka, California. The third meeting will be held at the Shilo Inn, 2500 Almond Street, Klamath Falls, Oregon.

FOR FURTHER INFORMATION CONTACT: Phil Detrich, Field Supervisor, U.S. Fish and Wildlife Service, 1829 South Oregon Street, Yreka, California 96097, telephone (530) 842-5763.

SUPPLEMENTARY INFORMATION: For background information on the Task Force, please refer to the notice of their initial meeting that appeared in the Federal Register on July 8, 1987 (52 FR 25639)

Dated: October 8, 2004.
John Engbring,
Deputy Manager, California/Nevada Operations Office, U.S. Fish and Wildlife Service.

[FR Doc. 04-23141 Filed 10-14-04; 8:45 am]

BILLING CODE 4310-55-P